DEPARTMENT OF ENERGY

Federal Energy Regulatory Commission

Combined Notice of Filings

Take notice that the Commission has received the following Natural Gas Pipeline Rate and Refund Report filings:

Docket Number: PR20-15-000.

Applicants: Columbia Gas of Ohio, Inc.

Description: Tariff filing per 284.123(b),(e)/: COH Rates effective Nov 27 2019 to be effective 11/27/2019.

Filed Date: 12/11/19.

Accession Number: 20191211-5027.

Comments/Protests Due: 5 p.m. ET 1/2/20.

Docket Number: PR20-17-000.

Applicants: Bay Gas Storage Company, Ltd.

Description: Tariff filing per 284.123(b),(e)/: Bay Gas Storage Company Revised SOC to be effective 11/21/2019.

Filed Date: 12/13/19.

Accession Number: 20191213-5219.

Comments/Protests Due: 5 p.m. ET 1/3/20.

Docket Number: PR20-18-000.

Applicants: Columbia Gas of Ohio, Inc.

Description: Tariff filing per 284.123(b),(e)/: COH Change SOC effective 11-27-2019 under PR20-18.

Filed Date: 12/16/19.

Accession Number: 20191216-5096.

Comments/Protests Due: 5 p.m. ET 1/6/20.

Docket Number: PR20-5-001.

Applicants: Midcoast Pipelines (North Texas) L.P.

Description: Tariff filing per 284.123(b),(e)+(g): Amendment to Petition for Rate Approval to be effective 11/1/2019.

Filed Date: 12/16/19.

Accession Number: 20191216-5103.

Comments Due: 5 p.m. ET 1/6/20.

284.123(g) Protests Due: 5 p.m. ET 2/14/20.

Docket Number: PR20-4-001.

Applicants: Acacia Natural Gas, L.L.C.

Description: Tariff filing per 284.123(b),(e)+(g): Amendment to 1370 to be effective 10/30/2019.

Filed Date: 12/17/19.

Accession Number: 20191217-5153.

Comments Due: 5 p.m. ET 1/7/20.

284.123(g) Protests Due: 5 p.m. ET 1/7/20.

Docket Numbers: RP20-332-000.

Applicants: Gulf South Pipeline Company, LP.

Description: § 4(d) Rate Filing: Amendments to Neg Rate Agmts (Uniper 46406, 46409) to be effective 1/1/2020.

Filed Date: 12/17/19.

Accession Number: 20191217-5001.

Comments Due: 5 p.m. ET 12/30/19.

Docket Numbers: RP20-333-000.

Applicants: Texas Eastern Transmission, LP.

Description: § 4(d) Rate Filing: Dec 2019 Cleanup Filing—Terminations and Name Changes to be effective 1/17/2020.

Filed Date: 12/17/19.

Accession Number: 20191217-5067.

Comments Due: 5 p.m. ET 12/30/19.

Docket Numbers: RP20-334-000.

Applicants: Gulfstream Natural Gas System, L.L.C.

Description: § 4(d) Rate Filing: Negotiated Rate—Duke Energy Florida 912401 eff 12-1-19 contract ext to be effective 1/1/2020.

Filed Date: 12/17/19.

Accession Number: 20191217-5096.

Comments Due: 5 p.m. ET 12/30/19.

Docket Numbers: RP20-335-000.

Applicants: Ruby Pipeline, L.L.C.

Description: § 4(d) Rate Filing: Removal of Non-Conforming FTSA (El Paso Marketing) to be effective 1/17/2020.

Filed Date: 12/17/19.

Accession Number: 20191217-5104.

Comments Due: 5 p.m. ET 12/30/19.

Docket Numbers: RP20-336-000.

Applicants: Boardwalk Storage Company, LLC.

Description: § 4(d) Rate Filing: Clean ups and Clarifications related to new Gas Management System to be effective 1/18/2020.

Filed Date: 12/18/19.

Accession Number: 20191218-5001.

Comments Due: 5 p.m. ET 12/30/19.

Docket Numbers: RP20-337-000.

Applicants: Sea Robin Pipeline Company, LLC.

Description: Compliance filing Annual Flowthrough Crediting Mechanism filing on 12/18/19 to be effective.

Filed Date: 12/18/19.

Accession Number: 20191218-5002.

Comments Due: 5 p.m. ET 12/30/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 18, 2019.
Nathaniel J. Davis, Sr.,
Deputy Secretary

[FR Doc. 2019-27877 Filed 12-26-19; 8:45 am]

BILLING CODE 6717-01-P